NATIONAL TRANSPORTATION SAFETY BOARD

General Aviation Search and Rescue

The National Transportation Safety Board (NTSB) will convene a 2-day forum focused on general aviation search and rescue operations on July 17 and 18, 2012. In the United States, following the crash of a general aviation airplane, inland searches for the aircraft are conducted by the Air Force Rescue Coordination Center, who are supported by numerous Federal, state, local, and volunteer organizations.

The forum will concentrate on examining the regulations, policies, and procedures at a Federal level and serve as a platform to facilitate dialog between search organizations, technology manufacturers, and industry groups on the issues currently impacting the general aviation community. Additionally, the forum will spend a second day discussing emerging technologies and how they may shape the future of general aviation search and rescue.

The two-day forum is being chaired by NTSB Chairman Deborah A. P. Hersman and all five Board Members will participate. Panelists participating in the forum will represent government and industry.

Search and rescue can often mean the difference between life and death,” said Chairman Hersman. “Unfortunately, every year we see delays in the detection and location of crashed aircraft due to outdated equipment and a failure to coordinate information and assets.”

The NTSB has issued more than two dozen safety recommendations on search and rescue, conducted safety studies addressing ways to improve search and rescue operations and even included general aviation safety on the Most Wanted List of transportation improvements. A detailed agenda and list of participants will be released closer to the date of the event.

The forum will be held in the NTSB Board Room and Conference Center, located at 429 L'Enfant Plaza SW., Washington DC. The forum is open to the public and free of charge. In addition, the forum can be viewed via Web cast at www.ntsb.gov. NTSB Media Contact: Terry Williams, (202) 314-6100, terry.williams@ntsb.gov. NTSB Forum Manager: Jason Fedok, 202-314-6645, jason.fedok@ntsb.gov.

Candi R. Bing,
Federal Register Liaison Officer.

[FR Doc. 2012-16410 Filed 7-3-12; 8:45 am]

BILLING CODE 7533-01-P